DEPARTMENT OF EDUCATION

[Docket No.: ED-2023-SCC-0015]

Agency Information Collection Activities; Submission to the Office of Management and Budget for Review and Approval; Comment Request; Application Forms and Instructions for the Fulbright-Hays Training Grants: Doctoral Dissertation Research Abroad (CFDA Number 84.022A) and Faculty Research Abroad (CFDA Number 84.019A)

AGENCY: Office of Postsecondary Education (OPE), Department of Education (ED).

ACTION: Notice.

SUMMARY: In accordance with the Paperwork Reduction Act (PRA) of 1995, the Department is proposing a revision of a currently approved information collection request (ICR).

DATES: Interested persons are invited to submit comments on or before February 22, 2023.

ADDRESSES: Written comments and recommendations for proposed information collection requests should be submitted within 30 days of publication of this notice. Click on this link www.reginfo.gov/public/do/PRAMain to access the site. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to collection activities, please contact Pamela Maimer, (202) 453-6891.

SUPPLEMENTARY INFORMATION: The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Application Forms and Instructions for the Fulbright-Hays Training Grants: Doctoral Dissertation Research Abroad (CFDA Number 84.022A) and Faculty Research Abroad (CFDA Number 84.019A).

OMB Control Number: 1840-0005.

Type of Review: Revision of a currently approved ICR.

Respondents/Affected Public: Private sector.

Total Estimated Number of Annual Responses: 480.

Total Estimated Number of Annual Burden Hours: 11,500.

Abstract: The purpose of section 102(b)(6) of the Mutual Educational and Cultural Exchange Act of 1961 (Fulbright-Hays Act) is to promote and develop modern foreign language training and area studies throughout the educational structure of the United States. To help accomplish this objective, fellowships are awarded through US institutions of higher education to American faculty and dissertation students enabling them to conduct overseas research and enhance their foreign language proficiency.

Under the Fulbright-Hays Doctoral Dissertation Research Abroad (DDRA) and the Fulbright-Hays Faculty Research Abroad (FRA) programs, individual scholars apply through eligible institutions for an institutional grant to support the research fellowship. These institutions administer the program in cooperation with the US Department of Education (US/ED) as provided under the authority of sections 102(b)(6) and 104(e)(1) of the Mutual Educational and Cultural Exchange Act of 1961, 34 CFR part 662, and the Policy Statements of the J. William Fulbright Foreign Scholarship Board (FSB).

This information collection request is a revision based on a program change due to agency discretion. It is adding to the currently approved respondents and burden hours the number of respondents and burden hours for the FRA program, which has been inactive since 2010. DDRA and FRA are two closely related programs funded under the Fulbright-Hays Act and their applications are cleared under the same OMB number: 1840-0005. In FY 2011 funding for these programs was significantly reduced and we could no longer afford to fund the FRA program, so we retired it. It has only been recently that we have been able to reactivate the program and run competitions again. The application for FRA is still cleared under OMB number 1840-0005 with the DDRA application, and we are revising the information collection to include the FRA program.

This collection is being submitted under the Streamlined Clearance Process for Discretionary Grant Information Collections (1894-0001). Therefore, the 30-day public comment period notice will be the only public comment notice published for this information collection.

Dated: January 17, 2023.
Kun Mullan,
PRA Coordinator, Strategic Collections and Clearance, Governance and Strategy Division, Office of Chief Data Officer, Office of Planning, Evaluation and Policy Development.

[FR Doc. 2023-01103 Filed 1-20-23; 8:45 am]

BILLING CODE 4000-01-P